DEPARTMENT OF TRANSPORTATION

Federal Highway Administration

Notice of Final Federal Agency Actions on Proposed Highway in California

AGENCY: Federal Highway Administration (FHWA), U.S. DOT.

ACTION: Notice of Limitation on Claims for Judicial Review of Actions by FHWA and other Federal agencies: Shasta-Trinity National Forest (Forest Service), and U.S. Bureau of Reclamation, Mid-Pacific Region (Bureau of Reclamation).

SUMMARY: This notice announces actions taken by the FHWA and other Federal agencies that are final within the meaning of 23 U.S.C. 139(l)(1). These actions relate to a proposed highway project, replacement of the Antlers Bridge (Bridge No. 06-0089) and realignment of a 0.42-mile segment of Interstate 5, in the County of Shasta, State of California. Those actions grant licenses, permits, and approvals for the project.

DATES: By this notice, the FHWA is advising the public of final agency actions subject to 23 U.S.C. 139(l)(1). A claim seeking judicial review of the Federal agency actions on the highway project will be barred unless the claim is filed on or before December 16, 2009. If the Federal law that authorizes judicial review of a claim provides a time period of less than 180 days for filing such claim, then that shorter time period still applies.

FOR FURTHER INFORMATION CONTACT: Lanh Phan, Transportation Engineer, Federal Highway Administration, 650 Capitol Mall, Suite 4-100, Sacramento, CA 95814, weekdays between 7 a.m. and 4 p.m., telephone 916-498-5046, lanh.phan@dot.gov. For Forest Service: Stacy Smith, Shasta-Trinity National Forest, 204 West Alma, Mount Shasta, CA 96067, Telephone: (530) 926-9643, e-mail: slsmith01@fs.fed.us. For Bureau of Reclamation: Buford Holt, Bureau of Reclamation, Northern California Area Office, 16349 Shasta Dam Boulevard, Shasta Lake, CA 96019, Telephone: (530) 276-2047, e-mail: bholt@mp.usbr.gov. For California Department of Transportation: Edward Espinoza, Chief, Caltrans Environmental Planning Office, 1657 Riverside Drive, Redding, CA 96001, during normal office hours 7:30 a.m.-4:15 p.m. Monday-Friday, Telephone: (530) 225-3308, e-mail: ejespino@dot.ca.gov.

SUPPLEMENTARY INFORMATION: Notice is hereby given that the FHWA and other Federal agencies have taken final agency actions subject to 23 U.S.C. 139(l)(1) by issuing licenses, permits, and approvals for the following highway project in the State of California: Replacement of the Antlers Bridge (Bridge No. 06-0089) and realignment of a 0.42-mile segment of Interstate 5, in Shasta County, near the community of Lakehead. The existing steel truss bridge was constructed in 1941 and exhibits signs of structural fatigue. Additionally, the section of highway abutting the south end of the bridge includes a series of curves and has an accident rate higher than average for similar highways statewide. The proposed project entails construction of a new bridge on an alignment immediately east of the existing bridge. The existing bridge will be removed once the new bridge is operational. A 0.42-mile section of highway south of the bridge will be reconstructed to improve the alignment. The actions by the Federal agencies, and the laws under which such actions were taken, are described in the Final Environmental Assessment (EA) for the project, approved on September 29, 2006, in the FHWA Finding of No Significant Impact (FONSI) issued on January 19, 2007, and in other documents in the FHWA project records. The EA, FONSI, and other project records are available by contacting Caltrans at the address provided above. The FHWA EA and FONSI can be viewed and downloaded from the project Web site at http://www.dot.ca.gov/dist3/departments/envinternet/antler/antler.htm. The Forest Service and Bureau of Reclamation decisions and permits are available by contacting the Forest Service and Bureau of Reclamation at the addresses provided above. This notice applies to all Federal agency decisions as of the issuance date of this notice and all laws under which such actions were taken, including but not limited to:

1. General: National Environmental Policy Act (NEPA) [42 U.S.C. 4321-4351]; Federal-Aid Highway Act [23 U.S.C. 109].

2. Air: Clean Air Act, 42 U.S.C. 7401-7671(q).

3. Wildlife: Endangered Species Act [16 U.S.C. 1531-1544 and Section 1536], Marine Mammal Protection Act [16 U.S.C. 1361], Anadromous Fish Conservation Act [16 U.S.C. 757(a)-757(g)], Migratory Bird Treaty Act [16 U.S.C. 703-712], Magnuson-Stevens Fishery Conservation and Management Act of 1976, as amended [16 U.S.C. 1801 et seq.].

4. Historic and Cultural Resources: Section 106 of the National Historic Preservation Act of 1966, as amended [16 U.S.C. 470(f) et seq.]; Archeological Resources Protection Act of 1977 [16 U.S.C. 470(aa)-11]; Archeological and Historic Preservation Act [16 U.S.C. 469-469(c)]; Native American Grave Protection and Repatriation Act (NAGPRA) [25 U.S.C. 3001-3013].

5. Social and Economic: Civil Rights Act of 1964 [42 U.S.C. 2000(d)-2000(d)(1)]; American Indian Religious Freedom Act [42 U.S.C. 1996].

6. Wetlands and Water Resources: Clean Water Act, 33 U.S.C. 1251-1377 (Section 404, Section 401, Section 319); Emergency Wetlands Resources Act, 16 U.S.C. 3921, 3931; TEA-21 Wetlands Mitigation, 23 U.S.C. 103(b)(6)(m), 133(b)(11); Flood Disaster Protection Act, 42 U.S.C. 4001-4128; Rivers and Harbors Act of 1899, 33 U.S.C. 401-406.

7. Hazardous Materials: Comprehensive Environmental Response, Compensation, and Liability Act (CERCLA), 42 U.S.C. 9601-9675; Superfund Amendments and Reauthorization Act of 1986 (SARA); Resource Conservation and Recovery Act (RCRA), 42 U.S.C. 6901-6992(k).

8. Executive Orders: E.O. 11990 Protection of Wetlands; E.O. 11988 Floodplain Management; E.O. 12898, Federal Actions to Address Environmental Justice in Minority Populations and Low Income Populations; E.O. 11593 Protection and Enhancement of Cultural Resources; E.O. 13175 Consultation and Coordination with Indian Tribal Governments; E.O. 11514 Protection and Enhancement of Environmental Quality; E.O. 13112 Invasive Species.

(Catalog of Federal Domestic Assistance Program Number 20.205, Highway Planning and Construction. The regulations implementing Executive Order 12372 regarding intergovernmental consultation on Federal programs and activities apply to this program.)

Authority: 23 U.S.C. 139(I)(1).

Issued on: June 15, 2009.
Cindy Vigue,
Director, State Programs, Federal Highway Administration, Sacramento, California.

[FR Doc. E9-14408 Filed 6-18-09; 8:45 am]

BILLING CODE 4910-RY-P